DEPARTMENT OF AGRICULTURE

Departmental Management; Public Meeting on BioPreferred℠ Intermediate Material and Feedstock Product Designation

AGENCY: Departmental Management, Office of Procurement and Property Management.

ACTION: Notice of public meeting.

SUMMARY: The U.S. Department of Agriculture (USDA) will hold a public meeting on April 1, 2010, for interested stakeholders to discuss the issue of intermediate material and feedstock (IMF) products that contain biobased materials. Intermediate materials and feedstocks represent those products frequently sold business to business, where the receiving business will use the product in some subsequent production or finishing cycle of a finished product. An example of an IMF product is a biobased plastic resin that can be used to produce fibers for fabrics, films for packaging and disposable cutlery.

This issue pertains to the designation by USDA of biobased products for a Federal Procurement preference, as mandated by the 2008 Farm Bill.

Speakers will include representatives from General Services Agency (GSA), Defense Logistics Agency (DLA), and a former government procurement official.

DATES: April 1, 2010, 8:30 a.m. to 1 p.m. (CST).

MEETING LOCATION: Iowa State University—Scheman Building at the intersection of University Boulevard and Lincoln Way, Ames, Iowa 50011.

Pre-registration for the public meeting on April 1, 2010, is not required but would be helpful, particularly if you wish to make a presentation. If you wish to register to attend the public meeting, please do so at this Web site: https://www.ucs.iastate.edu/mnet/biopreferred/sessionregister.html and state whether or not you wish to be recognized to make a formal presentation. The meeting is free of charge.

Directions to the Iowa State Center may be found at http://www.center.iastate.edu/newsite/guests/maps.asp and a map of the Iowa State University campus is accessible at http://www.fpm.iastate.edu/maps . The Scheman building is located just west of the Hilton Coliseum and north of the Jack Trice Stadium on the Campus Map. Parking for the event will be in Lots B1 and C1 just north of the building. The parking is free.

Those unable to attend the public meeting in person may listen to the meeting by calling 866-433-4616. The pass code is “635195”. Participants using the audio bridge may submit questions or comments during the meeting to USDABioInfo@iastate.edu or through the webinar itself, the exact link of which will be sent to participants via email after registering.

FOR FURTHER INFORMATION CONTACT: Ron Buckhalt, BioPreferred Manager, U.S. Department of Agriculture, Office of Procurement and Property Management, 361 Reporters Building, 300 7th Street, SW., Washington, DC 20024, (202) 205-4008. RonB.Buckhalt@DA.USDA.GOV.

SUPPLEMENTARY INFORMATION: Section 9002 of the Farm Security and Rural Investment Act of 2002 (Pub. L. 107-171) established a program for the procurement of USDA designated biobased products by Federal agencies and a voluntary program for the labeling of USDA certified biobased products. The Food, Conservation, and Energy Act of 2008 (2008 Farm Bill) (Pub. L. 110-246) continued these programs and made certain changes to the Federal procurement preference program. USDA refers to the procurement preference program and the voluntary labeling program together as the BioPreferred℠ Program.

Due to the changes mandated by the 2008 Farm Bill, and the passage of five years since USDA first published the Guidelines for Designated Biobased Products for Federal Procurement (Guidelines) (7 CFR 2902), USDA intends to revise the Guidelines in 2010. USDA is holding three public meetings to gather input from interested stakeholders on what should be considered when revising the Guidelines. The first meeting, which occurred in January in Washington, DC, addressed evaluation of environmental impacts associated with the manufacture, use, and disposal of biobased products. The second meeting, held in February in Riverside, CA addressed the designation of complex assembly products under the BioPreferred program.

The purpose of the April 1, 2010, meeting, which is the third of the three meetings, will be to stimulate discussion and gather input from stakeholders on how USDA can effectively implement the designation of intermediate material and feedstock products for Federal preferred procurement status under the BioPreferred program as required by the 2008 Farm Bill.

Under the current Guidelines, USDA designates “finished” products by collecting information on available biobased products, manufacturers, and distributors to determine potential product categories and tests products for biobased content using ASTM International Standard Test Methods for Determining the Biobased Content of Solid, Liquid, and Gaseous Samples Using Radiocarbon Analysis, D-6866. USDA also evaluates environmental and human health benefits and lifecycle costs of categories using the Building for Environmental and Economic Sustainability (BEES) model developed by the National Institute of Standards and Technology.

To set the stage before opening the forum for public comment, USDA has invited to the public meeting speakers from USDA, the Environmental Protection Agency (EPA), and individuals from academia and industry who are well-versed in biobased materials, manufacturing and products. USDA is seeking answers to a series of questions about intermediate material and feedstock products and their role in designating biobased products for Federal procurement.

These questions include:

• How should intermediate products be defined?

• The proposed rule for the Voluntary Labeling Program states that intermediate products and feedstocks do not include raw agricultural and forestry materials. How should “raw agricultural materials” be defined?

• What types of intermediate products should be included, and how should they be categorized?

• What entities are best positioned to help define the possible categories?

• How should the designation of intermediate ingredients and feedstocks be organized?

• What categories of intermediate ingredients/feedstocks currently have the greatest potential to expand product eligibility for the BioPreferred program, and what high-impact categories might be expected to emerge over the next five years?

• What should be the minimum allowable biobased content for intermediate products and feed stocks?

• What information should be provided to assist purchasing decision makers?

• Will federal procurement agencies ever purchase intermediate ingredients, or will they be purchasing only end-use products?

• What are the potential obstacles to designating intermediate products and ingredients for preferred procurement status?

Dated: March 10, 2010.
Pearlie S. Reed,
Assistant Secretary for Administration, U.S. Department of Agriculture.

[FR Doc. 2010-5681 Filed 3-15-10; 8:45 am]

BILLING CODE P